ENVIRONMENTAL PROTECTION AGENCY

[FRL-8922-5]

National Environmental Justice Advisory Council; Notification of Public Meeting and Public Comment

AGENCY: Environmental protection agency.

ACTION: Notification of public meeting.

SUMMARY: Pursuant to the Federal Advisory Committee Act (FACA), Public Law 92-463, the U.S. Environmental Protection Agency (EPA) hereby provides notice that the National Environmental Justice Advisory Council (NEJAC) will meet on the dates and times described below. All meetings are open to the public. Members of the public are encouraged to provide comments relevant to the specific issues being considered by the NEJAC. For additional information about registering for public comment, please see SUPPLEMENTAL INFORMATION. Due to limited space, seating at the NEJAC meeting will be on a first-come basis.

DATES: The NEJAC meeting will convene Tuesday, July 21, 2009 from 9 a.m. to 5 p.m., and reconvene Wednesday, July 22, 2009, from 8:30 a.m. to 5 p.m., and Thursday, July 23, 2009, from 8:45 a.m. to 2 p.m. One public comment session relevant to the specific issues being considered by the NEJAC (see SUPPLEMENTARY INFORMATION) is scheduled for Tuesday evening, July 21, from 6:30 p.m. to 9:30 p.m. All noted times are Eastern Time. Members of the public who wish to participate in the public comment period are encouraged to pre-register by July 13, 2009.

ADDRESSES: The NEJAC meeting will be held at the Crowne Plaza Washington National Hotel, 1480 Crystal Drive, Arlington, VA 22202, telephone (703) 416-1600 or toll-Free: (800) 2CROWNE, and facsimile (703) 416-1651.

FOR FURTHER INFORMATION CONTACT: Questions concerning the meeting should be directed to Ms. Lisa Hammond, U.S. Environmental Protection Agency, at 1200 Pennsylvania Avenue, NW., (MC2201A), Washington, DC 20460; by telephone at (202) 564-0736, via e-mail at hammond.lisa@epa.gov; or by FAX at (202) 564-1624. Additional information about the meeting is available on the following Web site: http://www.epa.gov/compliance/environmentaljustice/nejac/meetings.html.

Pre-registration for all attendees is recommended. To register online, visit the Web site above. Requests for pre-registration forms should be sent to Ms. Stacy Stockton, EPA Contractor, APEX Direct, Inc., at (770) 997-7998 or meetings@AlwaysPursuingExcellence.com. Non-English speaking attendees wishing to arrange for a foreign language interpreter also may make appropriate arrangements using these numbers.

SUPPLEMENTARY INFORMATION: The Charter of the NEJAC states that the advisory committee shall provide independent advice to the Administrator on areas that may include, among other things, “advice about broad, cross-cutting issues related to environmental justice, including environment-related strategic, scientific, technological, regulatory and economic issues related to environmental justice.”

The meeting shall be used to receive comments, discuss, and provide recommendations regarding these primary areas: (1) EPA's Priorities for Addressing Environmental Justice; (2) Impacts of NEJAC Recommendations on EPA Policies and Activities; (3) Enhancing Community Engagement with the NEJAC; (4) Strategies to Identify and Address Disproportionate Burdens on Certain Communities Caused by Air Pollution Resulting from Goods Movement Activities; and (5) School Air Toxics Monitoring in Disproportionately Burdened Communities.

A. Public Comment: Individuals or groups making oral presentations during the public comment period will be limited to a total time of five minutes. Only one representative of a community, organization or group will be allowed to speak. Any number of written comments can be submitted for the record. The suggested format for individuals providing public comments is as follows: Name of Speaker, Name of Organization/Community, Address/Telephone/E-mail, Description of Concern and its Relationship to a Specific Policy Issue(s), and Recommendations or desired outcome. Written comments received by July 13, 2009 will be included in the materials distributed to the members of the NEJAC. Written comments received after that date will be discussed by the NEJAC as time permits. All information should be sent to the address, e-mail, or fax number listed in the CONTACT section above.

B. Information About Services for Individuals With Disabilities: For information about access or services for individuals with disabilities, please contact Ms. Stacy Stockton, EPA Contractor, APEX Direct, Inc., at (770) 997-7998 or meetings@AlwaysPursuingExcellence.com. To request special accommodations for a disability, please contact Ms. Stockton, at least 10 days prior to the meeting, to give EPA sufficient time to process your request. All requests should be sent to the address, e-mail, or fax number listed above.

Dated: June 16, 2009.
Victoria Robinson,
Designated Federal Officer, National Environmental Justice Advisory Council.

[FR Doc. E9-14865 Filed 6-23-09; 8:45 am]

BILLING CODE 6560-50-P